DEPARTMENT OF ENERGY

Federal Energy Regulatory Commission

[Docket No. IC11-537-000]

Commission Information Collection Activities (FERC-537); Comment Request; Extension

October 8, 2010.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due December 20, 2010.

ADDRESSES: Comments may be filed either electronically (eFiled) or in paper format, and should refer to Docket No. IC11-537-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at http://www.ferc.gov/docs-filing/elibrary.asp, by searching on Docket No. IC11-537. For user assistance, contact FERC Online Support by e-mail at ferconlinesupport@ferc.gov, or by phone at: (866) 208-3676 (toll-free), or (202) 502-8659 for TTY.

FOR FURTHER INFORMATION: Ellen Brown may be reached by e-mail at DataClearance@FERC.gov, telephone at (202) 502-8663, and fax at (202) 273-0873.

SUPPLEMENTARY INFORMATION: The information collected under the requirements of FERC-537, “Gas Pipeline Certificates: Construction, Acquisition, and Abandonment” (OMB Control No. 1902-0060), is used by the Commission to implement the statutory provisions of the Natural Gas Policy Act of 1978 (NGPA), 15 U.S.C. 3301-3432, and the Natural Gas Act (NGA) (15 U.S.C. 717-717w). Under the NGA, natural gas pipeline companies must obtain Commission authorization to undertake the construction or extension of any facilities, or to acquire or operate any such facilities or extensions in accordance with Section 7(c) of the NGA. A natural gas company must also obtain Commission approval under Section 7(b) of the NGA prior to abandoning any jurisdictional facility or service. Under the NGA and the NGPA, interstate and intrastate pipelines must also obtain authorization for certain transportation and storage services and arrangements, particularly a Part 284, Subpart G—Blanket Certificate (18 CFR 284.8).

The information collected is necessary to certificate interstate pipelines engaged in the transportation and sale of natural gas, and the construction, acquisition, and operation of facilities to be used in those activities, to authorize the abandonment of facilities and services, and to authorize certain NGPA transactions. If a certificate is granted, the natural gas company can construct, acquire, or operate facilities, plus engage in interstate transportation or sale of natural gas. Conversely, approval of an abandonment application permits the pipeline to cease service and/or discontinue the operation of such facilities. Authorization under NGPA Section 311(a) allows the interstate or intrastate pipeline applicants to render certain transportation services.

The data required to be submitted consists of identification of the company and responsible officials, factors considered in the location of the facilities and the detailed impact on the project area for environmental considerations. Also to be submitted are the following:

• Flow diagrams showing proposed design capacity for engineering design verification and safety determination;

• Commercial and economic data presenting the basis for the proposed action; and

• Cost of the proposed facilities, plans for financing, and estimated revenues and expenses related to the proposed facility for accounting and financial evaluation.

The Commission implements these filing requirements in the Code of Federal Regulations (CFR) under 18 CFR 157.5-.11; 157.13-.20; 157.53; 157.201-.209; 157.211; 157.214-.218; 284.8; 284.11; 284.126; 284.221; 284.224.¹

¹ Sections 284.223 and 284.227 have been removed from this Notice since they have no reporting or records burden.

Action: The Commission is requesting a three-year extension of the FERC-537 reporting requirements.

Burden Statement: The following table shows the current total burden estimate. Because the nature of the various filings that are covered by FERC-537 are so varied, a table has been included as an Appendix to this Notice to give a more detailed description of the various elements of this burden estimate:

FERC data collection | No. of respondents | Average No. of responses per respondent ² | Average burden hours per response ³ | Total annual burden hours
| (1) | (2) | (3) | (1) × (2) × (3)
FERC-537 | 225 | 3.44 | 133 | 102,942

The total estimated annual cost burden to respondents is $6,823,570 (102,942 hours/2,080 hours ⁴ per year, times $137,874 ⁵).

² From Appendix: No. of Filings/No. of Respondents, or 775/225 = 3.44.

³ A weighted average based on the information provided in the Appendix to this Notice.

⁴ Estimated number of hours an employee works each year.

⁵ Estimated average annual cost per employee.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

Appendix

Details for FERC-537, “Gas Pipeline Certificates: Construction, Acquisition, and Abandonment”
[Based on Fiscal Year 2010 information and records]
Regulation section 18 CFR | Regulation topic | Number of respondents | Number of filings or responses | Avg. hours to prepare a filing or application
157.5-.11; & 157.13-.20 | Interstate certificate and abandonment applications | 75 companies (25 different) | 82 | 500
157.53 | Exemptions. |  | 10 | 100
157.201-.209; 157.211; 157.214-.218 | Blanket Certificates prior notice filings. |  | 45 | 200
157.201-.209; 157.211; 157.214-.218 | Blanket Certificates—annual reports | 145 companies (145 different) | 336 | 50
284.11 | NGPA Sec. 311 Construction—annual reports
284.8 | Capacity Release—record keeping | 168 | 168 | 75
284.126 (a) & (c) | Intrastate bypass, semi annual transportation & storage—reports | 50 companies (50 different) | 100 | 30
284.221 | Blanket Certificates—one time filing, inc. new tariff and rate design proposal | 20 | 20 | 100
284.224 | Hinshaw Blanket Certificates— | 2 (2 different) | 2 | 75
157.5-.11; & 157.13-.20; | Non-facility certificate or abandonment applications | 9 (3 different) | 12 | 75
Totals |  | 225 different | 775 | 133 average, weighted.

[FR Doc. 2010-26240 Filed 10-18-10; 8:45 am]

BILLING CODE 6717-01-P